FEDERAL COMMUNICATIONS COMMISSION

[DA 05-1323]

Consumer Advisory Committee

AGENCY: Federal Communications Commission.

ACTION: Notice.

SUMMARY: In this document, the Commission announces the appointment of twenty (20) additional members to its Consumer Advisory Committee (“Committee”).

ADDRESSES: Federal Communications Commission, 445 12th Street, NW., Room TW-C-305, Washington, DC 20554.

DATES: The Consumer Advisory Committee Meeting previously announced at 70 FR 16284 has been rescheduled for Friday, June 10, 2005, 9 a.m. to 4 p.m.

FOR FURTHER INFORMATION CONTACT: Scott Marshall, Consumer & Governmental Affairs Bureau, (202) 418-2809 (voice), (202) 418-0179 (TTY), or e-mail scott.marshal@fcc.gov.

SUPPLEMENTARY INFORMATION: On March 8, 2005, the Commission previously announced the appointment of thirty-five (35) members to the Committee. See Public Notice DA 05-549 published at 70 FR 16284, March 30, 2005. By Public Notice dated and released on May 26, 2005 (DA 05-1323), the Commission announced the appointment of twenty (20) additional members to the committee. Of this number, five (5) members represent consumer interests; nine (9) members represent disability interests; one (1) member represents the interests of state regulators, and three (3) members represent industry interests. In addition, two (2) individuals have been selected to serve based upon their expertise in areas including broadband deployment, telecommunications relay services, and captioned-telephone services. The Committee's slate is designed to be representative of the Commission's many constituencies, and the expertise and diversity selected will provide a balanced point of view as required by the Federal Advisory Committee Act all appointments are effective immediately and shall terminate November 19, 2006, or when the Committee is terminated, whichever is earlier.

The Additional Committee Members are as follows:

1. Alexander Graham Bell Association for the Deaf and Hard of Hearing, Janice Schacter;

2. Association for Communications Technology Professionals in Higher Education, Tamara Closs;

3. Association of Assistive Technology Act Programs, Deborah Buck;

4. AT&T, Michael F. DelCasino;

5. BellSouth, John A. Ruscilli;

6. Center for Democracy and Technology, John Morris;

7. Communications Services for the Deaf, Ann Marie Mickelson;

8. Communications Works of the Deaf, Greg Frohriep;

9. Democracy Now! Publications, Denis Moynihan;

10. James J. Elekes (individual representing the interests of the blind or visually impaired community);

11. EAD & Associates, LLC, Elizabeth Davis;

12. Mission Consulting, Judy Viera;

13. Registry of Interpreters for the Deaf, Cheryl Moose;

14. Ron Bibler (individual with expertise in telecommunications relay and captioned telephone services);

15. San Carlos Apache Telecommunications Utility, Vernon R. James;

16. State of Hawaii, Division of Consumer Advocacy, John Cole;

17. TCS Associates, Dana Marlow;

18. Telecommunications Research and Action Center, John Breyault;

19. TeleCommunity Resource Center, Gene Crick;

20. Wayne Caswell (individual with expertise in deployment of broadband).

Accesible Formats

To request materials in accessible formats for people with disabilities (Braille, large print, electronic files, audio format), send an e-mail to fcc504@fcc.gov or call the Consumer & Governmental Affairs Bureau at (202) 418-0530 (voice), (202) 418-0432 (TTY).

Federal Communications Commission.
Monica Desai,
Acting Chief, Consumer & Governmental Affairs Bureau.

[FR Doc. 05-10971 Filed 5-31-05; 8:45 am]

BILLING CODE 6712-01-P